DEPARTMENT OF ENERGY

Federal Energy Regulatory Commission

Notice of Attendance at NYISO Meetings

July 23, 2010.

The Federal Energy Regulatory Commission hereby gives notice that members of the Commission and Commission staff may attend the following upcoming New York Independent System Operator, Inc. (NYISO) meetings:

NYISO Business Issues Committee:

• August 4, 2010 (Rensselaer, NY).

• September 1, 2010 (Rensselaer, NY).

• October 6, 2010 (Rensselaer, NY).

• November 3, 2010 (Rensselaer, NY).

NYISO Management Committee:

• August 25, 2010 (Rensselaer, NY).

• September 29, 2010 (Rensselaer, NY).

• October 21, 2010 (Rensselaer, NY).

• November 17, 2010 (Rensselaer, NY).

• December 15, 2010 (Rensselaer, NY).

NYISO ICAP Working Group: ¹

¹ NYISO Working Groups often meet on an as-needed basis and groups are also created and dissolved on an as-needed basis. Therefore, staff may monitor different groups from month-to-month accordingly.

• July 27, 2010 (Rensselaer, NY).

• August 9, 2010 (Rensselaer, NY).

• August 30, 2010 (Rensselaer, NY).

• September 13, 2010 (Rensselaer, NY).

• October 29, 2010 (Rensselaer, NY).

• November 9, 2010 (Rensselaer, NY).

• November 15, 2010 (Rensselaer, NY).

• December 13, 2010 (Rensselaer, NY).

NYISO Operating Committee:

• August 5, 2010 (Rensselaer, NY).

• September 2, 2010 (Rensselaer, NY).

• October 7, 2010 (Rensselaer, NY).

• November 4, 2010 (Rensselaer, NY).

• December 9, 2010 (Rensselaer, NY).

NYISO Transmission Planning Advisory Subcommittee:

• July 29, 2010 (Rensselaer, NY).

• August 26, 2010 (Rensselaer, NY).

• September 30, 2010 (Rensselaer, NY).

• November 5, 2010 (Rensselaer, NY).

• November 16, 2010 (Rensselaer, NY).

• December 2, 2010 (Rensselaer, NY).

For additional meeting information, see: http://www.nyiso.com/public/committees/calendar/index.jsp.

The discussions at each of the meetings described above may address matters at issue in pending proceedings before the Commission including the following:

Docket Nos. EL07-39 and ER08-695, New York Independent System Operator, Inc.

Docket No. EL09-57, Astoria Gas Turbine Power LLC v. New York Independent System Operator, Inc.

Docket No. EL10-033, New York Independent System Operator, Inc.

Docket No. EL10-70, TC Ravenswood, LLC v. New York Independent System Operator, Inc.

Docket No. ER01-3155, New York Independent System Operator, Inc.

Docket Nos. ER01-3001-021/ER03-647-012 and ER01-3001-022/ER03-647-013, New York Independent System Operator, Inc.

Docket No. ER04-449, New York Independent System Operator, Inc.

Docket No. ER04-230, New York Independent System Operator, Inc.

Docket No. ER07-612, New York Independent System Operator, Inc.

Docket No. ER08-850, New York Independent System Operator, Inc.

Docket No. ER08-867, New York Independent System Operator, Inc.

Docket No. ER08-1281, New York Independent System Operator, Inc.

Docket No. ER09-1142, New York Independent System Operator, Inc.

Docket No. ER09-1204, New York Independent System Operator, Inc.

Docket No. ER09-1682, New York Independent System Operator, Inc.

Docket No. ER09-405, New York Independent System Operator, Inc.

Docket No. ER10-65, New York Independent System Operator, Inc.

Docket No. ER10-424, New York Independent System Operator, Inc.

Docket No. ER10-290, New York Independent System Operator, Inc.

Docket No. ER10-554, New York Independent System Operator, Inc.

Docket No. ER10-555, New York Independent System Operator, Inc.

Docket No. ER10-573, New York Independent System Operator, Inc.

Docket No. ER10-1722, New York Independent System Operator, Inc.

Docket No. ER10-1657, New York Independent System Operator, Inc.

Docket No. ER10-1359, New York Independent System Operator, Inc.

Docket No. OA08-52, New York Independent System Operator, Inc.

Docket No. OA09-26, New York Independent System Operator, Inc.

The meetings are open to stakeholders. For more information, contact Jesse Hensley, Office of Energy Market Regulation, Federal Energy Regulatory Commission at (202) 502-6228 or Jesse.Hensley@ferc.gov.

Kimberly D. Bose,
Secretary.

[FR Doc. 2010-18839 Filed 7-30-10; 8:45 am]

BILLING CODE 6717-01-P